DEPARTMENT OF LABOR

Mine Safety and Health Administration

Petitions for Modification

The following parties have filed petitions to modify the application of existing safety standards under section 101(c) of the Federal Mine Safety and Health Act of 1977.

1. CONSOL of Kentucky, Inc.

[Docket No. M-2004-002-C]

CONSOL of Kentucky, Inc., 1800 Washington Road, Pittsburgh, Pennsylvania 15241 has filed a petition to modify the application of 30 CFR 75.1101-8 (Water sprinkler systems; arrangement of sprinklers) to its Jones Fork E-3 Mine (MSHA I.D. No. 15-18589) located in Knott County, Kentucky. The petitioner requests a modification of the existing standard to permit the use of a single line of automatic sprinklers for its fire protection system on main and secondary belt conveyors in the Jones Fork E-3 Mine. The petitioner proposes to: (i) Use a single overhead pipe system with ½-inch orifice automatic sprinklers located on 10-foot centers, to cover 50 feet of fire-resistant belt or 150 feet of non-fire resistant belt, with actuation temperatures between 200 and 230 degrees Fahrenheit and the water pressure equal to or greater than 10 psi; (ii) locate automatic sprinklers not more than 10 feet apart so that the discharge of water will extend over the belt drive, belt take-up, electrical control, and gear reducing unit; (iii) conduct a test during installation of each new system and during any subsequent repair or replacement of any critical part thereof; (iv) conduct a functional test to insure proper operation during subsequent repair or replacement of any critical part thereof; and (v) conduct an annual functional test of each sprinkler system. The petitioner asserts that the proposed alternative method would provide at least the same measure of protection as the existing standard.

2. Paramont Coal Company, LLC

[Docket No. M-2004-003-C]

Paramont Coal Company, LLC, 514 Front Street W., P.O. Drawer 1997, Coeburn, Virginia 24230-1997 has filed a petition to modify the application of 30 CFR 77.214(a) (Refuse piles; general) to its VICC#8 Mine (MSHA I.D. No. 44-06906) located in Wise County, Virginia. The petitioner requests a modification of the existing standard to allow placement of scalp rock in an area containing abandoned mine openings. The petitioner asserts that the proposed alternative method would provide at least the same measure of protection as the existing standard.

3. Consolidation Coal Company

[Docket No. M-2004-004-C]

Consolidation Coal Company, 1800 Washington Road, Pittsburgh, Pennsylvania 15341 has filed a petition to modify the application of 30 CFR 75.1101-8 (Water sprinkler systems; arrangement of sprinklers) to its (MSHA I.D. No. 44-03932) located in Tazewell County, Virginia. The petitioner requests a modification of the existing standard to permit the use of a single line of automatic sprinklers for its fire protection system on main and secondary belt conveyors. The petitioner proposes to use a single overhead pipe system with ½-inch orifice automatic sprinklers located on 10-foot centers, located to cover 50 feet of fire-resistant belt or 150 feet of non-fire resistant belt, with actuation temperatures between 200 degrees Fahrenheit, and with water pressure equal to or greater than 10 psi. The petitioner also proposes to have automatic sprinklers located not more than 10 feet apart so that the discharge of water will extend over the belt drive, belt take-up, electrical control, and gear reducing unit; conduct a test to insure proper operation during the installation of each new system and during any subsequent repair or replacement of any critical part of the sprinkler system; conduct a functional test to insure proper operation during subsequent repair or replacement of any critical part of the sprinklers system; and conduct functional test on an annual basis. The petitioner asserts that the proposed alternative method would provide at least the same measure of protection as the existing standard.

4. RAG Emerald Resources, L.P.

[Docket No. M-2004-005-C]

RAG Emerald Resources, L.P., One Oxford Centre, 301 Grant Street, 20th Floor, Pittsburgh, Pennsylvania 15219-1410 has filed a petition to modify the application of 30 CFR 75.312 (Main mine fan examinations and records) to its Emerald Mine (MSHA I.D. No. 36-05018) located in Greene County, Pennsylvania. The petitioner proposes to test its fans without removing the miners from the mine. The petitioner has listed specific procedures in this petition that would be followed when fans are being tested. The petitioner states that if an unplanned fan stoppage occurs, personnel will be withdrawn from the mine only if the fan is not restored within 15 minutes. The petitioner asserts that the proposed alternative method would provide at least the same measure of protection as the existing standard.

5. Consol Pennsylvania Coal Company

[Docket No. M-2004-006-C]

Abate Irwin, Inc., 62 Eighty Four Drive, Eighty Four, Pennsylvania 15330 has filed a petition to modify the application of 30 CFR 77.1710(g) (Protective clothing; requirements) at the Consol Pennsylvania Coal Company's Bailey Mine Preparation Plant (MSHA I.D. No. 36-07230) located in Greene County, Pennsylvania. The petitioner requests a modification of the existing standard to allow an alternative method to erect structural steel. The petitioner has been awarded a contract to erect the structural steel for the Bailey Mine Preparation Plant addition, which includes the erection of a tower crane, MCC Building, and the Preparation Plant addition, slated to begin in February 2004 and last through August 2004. Manpower will consist of approximately 16 Ironworkers from Local 549 in Wheeling, West Virginia. The petitioner requests that erection of the structural steel be approved under the Occupational Safety and Health Administration (OSHA) standard set forth in 29 CFR 1926.750. The petitioner asserts that the safety of the employees will not be compromised in any way and that safety will be increased by using the OSHA steel erection standard.

6. Cotter Corporation

[Docket No. M-2004-001-M]

Cotter Corporation, 7800 E. Dorado Place, Suite 210, Englewood, Colorado 80111 has filed a petition to modify the application of 30 CFR 57.14130(a)(4) (Roll-over protective structures (ROPS) and seat belts for surface equipment) to its C-JD-9 Mine (MSHA I.D. No. 05-03066) located in Montrose County, Colorado. The petitioner requests a modification of the existing standard to permit the use of underground haulage trucks without roll-over protection and seat belts on the surface of the C-JD-9 Mine. The petitioner asserts that the proposed alternative method would provide at least the same measure of protection as the existing standard.

Request for Comments

Persons interested in these petitions are encouraged to submit comments via e-mail to comments@msha.gov, or on a computer disk along with an original hard copy to the Office of Standards, Regulations, and Variances, Mine Safety and Health Administration, 1100 Wilson Boulevard, Room 2350, Arlington, Virginia 22209. All comments must be postmarked or received in that office on or before March 22, 2004. Copies of these petitions are available for inspection at that address.

Dated in Arlington, Virginia this 12th day of February, 2004.
Marvin W. Nichols, Jr.,
Director, Office of Standards, Regulations, and Variances.

[FR Doc. 04-3572 Filed 2-18-04; 8:45 am]

BILLING CODE 4510-43-P